ENVIRONMENTAL PROTECTION AGENCY

[EPA-HQ-OAR-2022-0084; FRL-10595-01-OMS]

Agency Information Collection Activities; Submission to the Office of Management and Budget for Review and Approval; Comment Request; NESHAP for Hazardous Waste Combustors (Renewal)

AGENCY: Environmental Protection Agency (EPA).

ACTION: Notice.

SUMMARY: The Environmental Protection Agency (EPA) has submitted an information collection request (ICR), NESHAP for Hazardous Waste Combustors (EPA ICR Number 1773.13, OMB Control Number 2060-0743), to the Office of Management and Budget (OMB) for review and approval in accordance with the Paperwork Reduction Act. This is a proposed extension of the ICR, which is currently approved through January 31, 2023. Public comments were previously requested, via the Federal Register, on July 22, 2022, during a 60-day comment period. This notice allows for an additional 30 days for public comments.

DATES: Comments may be submitted on or before March 9, 2023.

ADDRESSES: Submit your comments, referencing Docket ID Number EPA-HQ-OAR-2022-0084, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through January 31, 2023. An agency may not conduct or sponsor and a person is not required to respond to a collection of information unless it displays a currently valid OMB control number.

Public comments were previously requested via the Federal Register on July 22, 2022 during a 60-day comment period (87 FR 43843). This notice allows for an additional 30 days for public comments. Supporting documents which explain in detail the information that the EPA will be collecting are available in the public docket for this ICR. The docket can be viewed online at https://www.regulations.gov, or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Hazardous Waste Combustors (40 CFR part 63, subpart EEE) apply to the following types of new and existing combustion units that burn hazardous waste: incinerators, cement kilns, lightweight aggregate kilns, solid fuel boilers, liquid fuel boilers, and hydrochloric acid production facilities. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners and operators of hazardous waste combustors.

Respondent's obligation to respond: Mandatory (40 CFR part 63, subpart EEE).

Estimated number of respondents: 170 (total).

Frequency of response: Initially, occasionally, semiannually, and quarterly.

Total estimated burden: 59,100 hours (per year). Burden is defined at 5 CFR 1320.3(b).

Total estimated cost: $9,690,000 (per year), which includes $2,770,000 in annualized capital/startup and/or operation & maintenance costs.

Changes in the Estimates: The decrease in burden from the most-recently approved ICR is due to an adjustment(s). The adjustment decrease is due to an overall decrease in the number of respondents. This ICR updates the number of facilities and HWC units based on correspondence with EPA regions.

There is a decrease in O&M costs from the most-recently approved ICR due to the decreased number of respondents and a correction to the number of respondents incurring costs for COMs/opacity monitoring. The decrease is offset somewhat by a correction to the respondents incurring O&M costs for correlation testing. The number of new sources is expected to remain the same as estimated for the previous ICR; therefore, there are no changes to the capital costs.

Courtney Kerwin,
Director, Regulatory Support Division.

[FR Doc. 2023-01278 Filed 2-6-23; 8:45 am]

BILLING CODE 6560-50-P